DEPARTMENT OF THE INTERIOR

National Park Service

National Register of Historic Places; Notification of Pending Nominations

Nominations for the following properties being considered for listing in the National Register were received by the National Park Service before April 29, 2000. Pursuant to section 60.13 of 36 CFR part 60 written comments concerning the significance of these properties under the National Register criteria for evaluation may be forwarded to the National Register, National Park Service, 1849 C St. NW., NC400, Washington, DC 20240. Written comments should be submitted by May 25, 2000.

Carol D. Shull,
Keeper of the National Register.

CALIFORNIA

San Francisco County

San Francisco—Oakland Bay Bridge, I-80, San Francisco, 00000525

GEORGIA

Ben Hill County

Dorminy—Massee House, 516 W. Central Ave., Fitzgerald, 00000529

Calhoun County

Edison Commercial Historic District, Hartford St./GA 37 and Turner St./GA 216, Edison, 00000528

Morgan County

Apalachee School, 5060 Lower Apalachee Rd., Apalachee, 00000527

Newton County

North Covington Historic District, N. Emory and Odum Sts. and Georgia (CSX) Railroad, Covington, 00000526

INDIANA

Scott County

Scott County Home, 1050 S. Main St., Scottsburg, 00000530

IOWA

Lee County

McConn, Daniel, Barn, 2095 IA 61, Fort Madison, 00000531

Sac County

Chief Black Hawk Statue, Crescent Park Dr., Lake View, 00000532

KANSAS

Morris County

Carlson, Oscar, House, KS 2, Burdick, 00000533

MASSACHUSETTS

Hampshire County

Amherst West Cemetery, Triangle St., Amherst, 00000534

MICHIGAN

Muskegon County

Navigation Structures at White Lake Harbor, South End of Lau Rd., Whitehall, 00000535

MINNESOTA

Hennepin County

East Lake Branch Library, 2916 E. Lake St., Minneapolis, 00000542

Franklin Branch Library, 1314 W. Franklin Ave., Minneapolis, 00000545

Linden Hills Branch Library, 2900 W. 43rd St., Minneapolis, 00000540

Roosevelt Branch Library, 4026 28th Ave. S, Minneapolis, 00000543

Summer Branch Library, 611 Emerson Ave. N, Minneapolis, 00000539

Thirty-sixth Street Branch Library, 347 E. 36th St., Minneapolis, 00000541

Walker Branch Library, 2901 Hennepin Ave. S, Minneapolis, 00000544

MISSOURI

Cole County

Ruthven, John B. and Elizabeth, House, 406 Cherry St., Jefferson City, 00000537

Jackson County

Simpson-Yeomans-Country Side Historic District (Boundary Increase), General vicinity of W. 51 Terrace, Wornall Rd., W. F7 W 57th St., Kansas City, 00000538

NEW MEXICO

San Miguel County

Rowe Pueblo, Address Restricted, Rowe, 00000547

NEW YORK

Westchester County

South Presbyterian Church, 343 Broadway, Dobbs Ferry, 00000548

NORTH CAROLINA

Johnston County

North Smithfield Historic District, Roughly bounded by Market, Front, North, and Seventh Sts., Smithfield, 00000550

Wake County

Carpenter Historic District, (Wake County MPS), Along Capenter-Morrisville Rd., E of CSX Railroad Tracks and W of Davis Dr., Cary, 00000549

RHODE ISLAND

Kent County

Rice City Historic District (Boundary Increase), 2172 Plainfield Pike, Coventry, 00000551

Washington County

Tottell House, 1747 Mooresfield Rd., South Kingstown, 00000552

SOUTH CAROLINA

Aiken County

Salley Historic District, Bounded by Pine, Ferguson, Poplar, and Aldrich Sts., Salley, 00000554

Spartanburg County

Church of the Advent, 141 Advent St., Spartanburg, 00000553

TEXAS

Brazos County

La Salle Hotel, (Bryan MRA) 120 S. Main St., Bryan, 00000555

VIRGINIA

Halifax County

Carlbrook, VA 663, jct. VA 684, Halifax, 00000556

Richmond Independent city

Carver Industrial Historic District, Marshall, Lombardy, Clay, and Harrison Sts., Richmond, 00000559

Winchester Independent city

Douglas School, 598 N. Kent St., Winchester, 00000558

Wythe County

Wythe County Poorhouse Farm, VA 2, Peppers Ferry Rd., Wytheville, 00000557

[FR Doc. 00-11594 Filed 5-9-00; 8:45 am]

BILLING CODE 4310-70-P